COMMITTEE FOR THE IMPLEMENTATION OF TEXTILE AGREEMENTS

Determination Under the Textile and Apparel Commercial Availability Provision of the Dominican Republic-Central America-United States Free Trade Agreement

AGENCY: The Committee for the Implementation of Textile Agreements.

ACTION: Determination to add a product in unrestricted quantities to Annex 3.25 of the CAFTA-DR Agreement.

DATES: Applicable Date: December 23, 2021.

SUMMARY: The Committee for the Implementation of Textile Agreements (“CITA”) has determined that certain 100% polyester 3-layered bonded fabric, as specified below, is not available in commercial quantities in a timely manner in the CAFTA-DR countries. The product will be added to the list in Annex 3.25 of the CAFTA-DR Agreement in unrestricted quantities.

FOR FURTHER INFORMATION CONTACT: Thomas Newberg, Office of Textiles and Apparel, U.S. Department of Commerce, (202) 510-3982.

For Further Information On-line: https://itaprodingress.eastus.cloudapp.azure.com/otexacapublicsite/requests/cafta under “Approved Requests,” Reference number: CA2021002.

SUPPLEMENTARY INFORMATION:

Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamation 7987 (February 28, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25.4 and 3.25.5, when the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On November 15, 2021, the Chairman of CITA received a request for a Commercial Availability determination (“Request”) from Sandler, Travis and Rosenberg, P.A., on behalf of VF Corp. for certain 100% polyester 3-layered bonded fabric. On November 17, 2021, in accordance with CITA's procedures, CITA notified interested parties of the Request, which was posted on the dedicated website for CAFTA-DR Commercial Availability proceedings. In its notification, CITA advised that any Response with an Offer to Supply (“Response”) must be submitted by November 30, 2021, and any Rebuttal Comments to a Response must be submitted by December 6, 2021, in accordance with sections 6 and 7 of CITA's procedures. No interested entity submitted a Response to the Request advising CITA of its objection to the Request and its offer to supply the subject product.

In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated website for CAFTA-DR Commercial Availability proceedings, at https://itaprodingress.eastus.cloudapp.azure.com/otexacapublicsite/shortsupply/cafta.

Specifications: 3-layered bonded fabric with woven outer layer and knit pile inner layer, bonded with plastic.

HTS: 6001.22.

Face Fabric:

Fiber Content: 100% Polyester.

Yarn Size: 290D-350D/144F.

Thread Count:

Warp: 55-67 warp ends per inch.

Filling: 50-60 filling picks per inch.

Fabric Construction: Plain weave.

Fabric Weight: 175.7-214.5 g/m2.

Coloration: Dyed and/or printed.

Back Fabric:

Fiber Content: 100% Polyester.

Yarn Size: 70D-95D (before pile process).

Fabric Construction: Pile knit.

Fabric Weight: 145.5-181.5 g/m2.

Coloration: Dyed.

Composite Fabric:

Weight: 336.6-412.5 g/m2.

Bonding: Full or dot contact bonding meeting 2.5 Lbf/inch (Initial and 5x wash) per ASTM D2724.

Air Permeability: Initial ≤1.0 cfm per ASTM D737.

Durable Water Repellency: Initial ≥90 Points per AATCC 22.

Low Range Hydrostatic: Initial 8,000 mm-30,000 mm per AATCC 127.

Note: The yarn size designations describe a range of yarn specifications for yarn before knitting, dyeing, and finishing of the fabric. They are intended as specifications to be followed by the mill in sourcing yarn used to produce the fabric. Dyeing, finishing, and knitting can alter the characteristic of the yarn as it appears in the finished fabric. This specification therefore includes yarn sizes provided that the variation occurs after processing of the greige yarn and production of the fabric. The specifications for the fabric apply to the fabric itself prior to cutting and sewing of the finished garment. Such processing may alter the measurements.

Paul E. Morris,
Acting Chairman, Committee for the Implementation of Textile Agreements.

[FR Doc. 2021-27830 Filed 12-22-21; 8:45 am]

BILLING CODE 3510-DR-P